ELECTION ASSISTANCE COMMISSION

Sunshine Act; Notice of Public Meeting Agenda

Date AND Time: Thursday, October 8, 2009. 1 p.m.-3 p.m. EDT.

Place: U.S. Election Assistance Commission, 1225 New York Ave., NW., Suite 150, Washington, DC 20005, (Metro Stop: Metro Center).

Agenda: The Commission will hold a public meeting to consider administrative matters. The Commission will receive an update regarding the iBeta Lab Assessment Report. The Commission will consider a Memorandum of Understanding (MOU) with the Organization of American States (OAS). The Commission will host a panel discussion regarding voting accessibility. Members of the public may observe but not participate in EAC meetings unless this notice provides otherwise. Members of the public may use small electronic audio recording devices to record the proceedings. The use of other recording equipment and cameras requires advance notice to and coordination with the Commission's Communications Office.*

* View EAC Regulations Implementing Government in the Sunshine Act.

This meeting will be open to the public.

Person To Contact For Information: Bryan Whitener, Telephone: (202) 566-3100.

Signed:
Alice Miller,
Chief Operating Officer, U.S. Election Assistance Commission.

[FR Doc. E9-23629 Filed 9-28-09; 11:15 am]

BILLING CODE 6820-KF-P